DEPARTMENT OF THE INTERIOR

National Park Service

[NPS-WASO-NAGPRA-NPS0040408; PPWOCRADN0-PCU00RP14.R50000]

Notice of Inventory Completion: Archaeological Survey of Idaho Western Repository, Idaho State Historical Society, Boise, ID

AGENCY: National Park Service, Interior.

ACTION: Notice.

SUMMARY: In accordance with the Native American Graves Protection and Repatriation Act (NAGPRA), the Archaeological Survey of Idaho Western Repository, Idaho State Historical Society (ASI-WR), has completed an inventory of human remains and associated funerary objects and has determined that there is a cultural affiliation between the human remains and associated funerary objects and Indian Tribes or Native Hawaiian organizations in this notice.

DATES: Repatriation of the human remains and associated funerary objects in this notice may occur on or after July 17, 2025.

ADDRESSES: Send written requests for repatriation of the human remains and associated funerary objects in this notice to Tricia L. Canaday, Idaho State Historical Society, 210 Main Street, Boise, ID 83702, email tricia.canaday@ishs.idaho.gov and Lindsay D. Johansson, Archaeological Survey of Idaho—Western Repository, Idaho State Historical Society, 210 Main Street, Boise, ID 83702, email lindsay.johansson.ishs@outlook.com.

SUPPLEMENTARY INFORMATION: This notice is published as part of the National Park Service's administrative responsibilities under NAGPRA. The determinations in this notice are the sole responsibility of the ASI-WR, and additional information on the determinations in this notice, including the results of consultation, can be found in its inventory or related records. The National Park Service is not responsible for the determinations in this notice.

Abstract of Information Available

Human remains representing, at least, 19 individuals have been identified. The 26 associated funerary objects are stone tools, shell beads, bone tools, and ochre. The individuals and associated funerary objects were recovered in 1967 and 1968 by Idaho State University and Boise State College during excavations on private land in Weiser, Washington County, Idaho. They were transferred to the ASI-WR in the 1980s as part of a statewide redistribution of archaeological collections and represent several distinct primary and secondary burials interred between 3000- and 6000-years BP.

Cultural Affiliation

Based on the information available and the results of consultation, cultural affiliation is reasonably identified by the geographical location or acquisition history of the human remains and associated funerary objects described in this notice.

Determinations

The ASI-WR has determined that:

• The human remains described in this notice represent the physical remains of 19 individuals of Native American ancestry.

• The 26 objects described in this notice are reasonably believed to have been placed intentionally with or near individual human remains at the time of death or later as part of the death rite or ceremony.

• There is a connection between the human remains and associated funerary objects described in this notice and the Nez Perce Tribe ; Shoshone Bannock Tribes of the Fort Hall Reservation; and the Shoshone Paiute Tribes of the Duck Valley Reservation, Nevada.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after July 17, 2025. If competing requests for repatriation are received, the ASI-WR must determine the most appropriate requestor prior to repatriation. Requests for joint repatriation of the human remains and associated funerary objects are considered a single request and not competing requests. The ASI-WR is responsible for sending a copy of this notice to the Indian Tribes and Native Hawaiian organizations identified in this notice.

Authority: Native American Graves Protection and Repatriation Act, 25 U.S.C. 3003, and the implementing regulations, 43 CFR 10.10.

Dated: June 11, 2025.
Melanie O'Brien,
Manager, National NAGPRA Program.

[FR Doc. 2025-11141 Filed 6-16-25; 8:45 am]

BILLING CODE 4312-52-P